DEPARTMENT OF DEFENSE

Office of the Secretary

[Docket ID: DoD-2024-OS-0117]

Proposed Collection; Comment Request

AGENCY: Office of the Under Secretary of Defense for Intelligence and Security, (OUSD(I&S)), Department of Defense, (DoD).

ACTION: 60-Day information collection notice.

SUMMARY: In compliance with the Paperwork Reduction Act of 1995, the All-Domain Anomaly Resolution Office, (AARO) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 7, 2025.

ADDRESSES: You may submit comments, identified by docket number and title, by any of the following methods:

Federal eRulemaking Portal: https://www.regulations.gov. Follow the instructions for submitting comments.

Mail: Department of Defense, Office of the Assistant to the Secretary of Defense for Privacy, Civil Liberties, and Transparency, Regulatory Directorate, 4800 Mark Center Drive, Mailbox #24 Suite 05F16, Alexandria, VA 22350-1700.

Instructions: All submissions received must include the agency name, docket number and title for this Federal Register document. The general policy for comments and other submissions from members of the public is to make these submissions available for public viewing on the internet at https://www.regulations.gov as they are received without change, including any personal identifiers or contact information.

FOR FURTHER INFORMATION CONTACT: To request more information on this proposed information collection or to obtain a copy of the proposal and associated collection instruments, please write to All-domain Anomaly Resolution Office, 5000 Defense Pentagon, 3D959, Washington, DC, Paul Plescow, (703) 693-3008.

SUPPLEMENTARY INFORMATION: The AARO Form for Public Reporting information collection will be used to gather contact information, to include Personally Identifiable Information (PII), from members of the public. The collection is necessary to enable the All-domain AARO, Office of the Secretary of Defense, DoD, to meet its statutory requirements. FY23 National Defense Authorization Act (NDAA), section 1673, “Unidentified Anomalous Phenomena Reporting Procedures” requires that the Secretary of Defense “issue clear public guidance for how to securely access the mechanism for authorized reporting.”

Title; Associated Form; and OMB Number: AARO contact form for Authorized Reporting; DD Form 3212 and AARO Form for Public Reporting; OMB Control Number 0704-0674.

Needs and Uses: The AARO Form for Public Reporting information collection will be used to gather contact information, to include Personally Identifiable Information (PII) from members of the public. The collection is necessary to enable the All-domain AARO, Office of the Secretary of Defense, DoD, to meet its statutory requirements.

The new form will collect contact information from the general public to report to AARO. The collection is necessary to enable persons wanting to make a report to AARO directly.

The AARO Form for Public Reporting also supports Section 1683 of the FY23 NDAA. The PII provided on the AARO Form for Public Reporting enables AARO to contact respondents if deemed necessary.

The respondents are members of the public who want to contact AARO in furtherance of providing reporting regarding potential activities and events related to UAP. The respondents will be asked to voluntarily provide their contact information by completing fields and using drop down menus on a PDF form available through AARO's website (www.aaro.mil). The PII contact information will only include full name and email or phone number. This form is 100 percent electronic and will be available for download on AARO's website (www.aaro.mil) by any web browser, via both desktop and mobile device. The collection is sent to AARO when the respondent emails the completed form to AARO. No other communications are sent to the respondents that solicit responses. The Office of the Secretary of Defense Public Affairs will notify the public when AARO's public reporting form is available for use.

Information, including PII, collected from the public will be processed and stored in an electronic environment accredited to handle and secure PII. AARO will then review submitted information.

Affected Public: Individuals or households.

U.S. Government UAP Program/Activity Reporting Form; DD Form 3212

Annual Burden Hours: 208.

Number of Respondents: 2,500.

Responses per Respondent: 1.

Annual Responses: 2,500.

Average Burden per Response: 5 minutes.

AARO Form for Public Reporting

Annual Burden Hours: 4,167.

Number of Respondents: 25,000.

Responses per Respondent: 1.

Annual Responses: 25,000.

Average Burden per Response: 10 minutes.

Total

Annual Burden Hours: 4,375.

Number of Respondents: 27,500.

Responses per Respondent: 1.

Annual Responses: 27,500.

Frequency: On occasion.

Dated: November 4, 2024.
Stephanie J. Bost,
Alternate OSD Federal Register Liaison Officer, Department of Defense.

[FR Doc. 2024-25953 Filed 11-7-24; 8:45 am]

BILLING CODE 6001-FR-P